DEPARTMENT OF COMMERCE

Bureau of Industry and Security

15 CFR Part 774

The Commerce Control List

CFR Correction

In Title 15 of the Code of Federal Regulations, Parts 300 to 799, revised as of Jan. 1, 2011, in Supplement No. 1 of Part 774, make the following corrections:

1. On page 847, in ECCN 9D004, remove the following paragraphs from the end of the entry:

79. In Supplement No. 1 to Part 774 (the Commerce Control List), Category 9 Aerospace and Propulsion, Product Group E is amended by revising the Note located at the beginning to read as follows:

E. Technology

Note: “Development” or “production” “technology” controlled by 9E001 to 9E003 for gas turbine engines remains controlled when used as “use” “technology” for repair, rebuild and overhaul. Excluded from 9E001 to 9E003 control are: technical data, drawings or documentation for maintenance activities directly associated with calibration, removal or replacement of damaged or unserviceable line replaceable units, including replacement of whole engines or engine modules.

2. On page 848, revise the note under the heading “E. Technology” to read as follows:

Note: “Development” or “production” “technology” controlled by 9E001 to 9E003 for gas turbine engines remains controlled when used as “use” “technology” for repair, rebuild and overhaul. Excluded from 9E001 to 9E003 control are: technical data, drawings or documentation for maintenance activities directly associated with calibration, removal or replacement of damaged or unserviceable line replaceable units, including replacement of whole engines or engine modules.

[FR Doc. 2011-33619 Filed 12-28-11; 8:45 am]

BILLING CODE 1505-01-D